DEPARTMENT OF THE INTERIOR

Bureau of Land Management

[ID-933-1430-ET; IDI-33168]

Public Land Order No. 7456; Withdrawal for the Burley Administrative Site; Idaho

AGENCY: Bureau of Land Management, Interior.

ACTION: Public land order.

SUMMARY: This order withdraws 19.09 acres of public land from surface entry and mining for a period of 20 years to protect the Bureau of Land Management's Burley Administrative Site. The land has been and will remain open to mineral leasing.

EFFECTIVE DATE: June 29, 2000.

FOR FURTHER INFORMATION CONTACT: Jackie Simmons, BLM Idaho State Office, 1387 S. Vinnell Way, Boise, Idaho 83709, 208-373-3867.

By virtue of the authority vested in the Secretary of the Interior by Section 204 of the Federal Land Policy and Management Act of 1976, 43 U.S.C. 1714 (1994), it is ordered as follows:

1. Subject to valid existing rights, the following described public land is hereby withdrawn from settlement, sale, location, or entry, under the general land laws, including the United States mining laws (30 U.S.C., Ch. 2 (1994)), but not from leasing under the mineral leasing laws, to protect the Bureau of Land Management's Burley Administrative Site:

Boise Meridian

A parcel of land lying in the E½SW¼ of sec 32, T. 10 S., R. 23 E., the said parcel being more particularly described as follows:

Beginning at a point 1500.4 feet north and 33.0 feet west of the quarter section corner common to sec. 32, T. 10 S., R. 23 E., and sec. 5, T. 11 S., R. 23 E., said point being on the west right-of-way line of State Highway No. 27; thence N. 0°22′03″ E. along the highway right-of-way a distance of 515.12 feet; thence N. 89°27′57″ W. a distance 1184.19 feet to the centerline of the U.S.R.S. “H” Canal; thence S. 35°17′24″ W. along the canal centerline a distance of 80.64 feet; thence S. 21°20′41″ W. along the canal centerline a distance of 89.13 feet; thence S. 11°08′55″ W. along the canal centerline a distance of 221.23 feet to the west quarter section boundary of said sec. 23; thence S. 0°18′27″ E. along the quarter section boundary 501.81 feet; thence S.89°26′03″ E. a distance of 496.15 feet ; thence N. 0°36′56″ E. a distance of 355.45 feet; thence S.89°21′29″ E. a distance of 800 feet to the point of beginning.

The area described contains 19.09 acres, more or less, in Cassia County.

2. The withdrawal made by this order does not alter the applicability of those public land laws governing the use of the land under lease, license, or permit, or governing the disposal of the mineral or vegetable resources other than under the mining laws.

3. This withdrawal will expire 20 years from the effective date of this order, unless as a result of a review conducted before the expiration date pursuant to section 204(f) of the Federal Land Policy and Management Act of 1976, 43 U.S.C. 1714(f) (1994), the Secretary determines that the withdrawal shall be extended.

Dated: June 7, 2000.
Sylvia V. Baca,
Assistant Secretary of the Interior.

[FR Doc. 00-16458 Filed 6-28-00; 8:45 am]

BILLING CODE 4310-GG-P